TRADE REPRESENTATIVE

[Dispute No. WTO/DS437]

WTO Dispute Settlement Proceeding Regarding United States—Countervailing Duty Measures on Certain Products from China

AGENCY: Office of the United States Trade Representative.

ACTION: Notice; request for comments.

SUMMARY: The Office of the United States Trade Representative (“USTR”) is providing notice that on May 25, 2012, the People's Republic of China (“China”) requested consultations with the United States under the Marrakesh Agreement Establishing the World Trade Organization (“WTO Agreement”) concerning countervailing duty determinations and orders by the Department of Commerce (“DOC”) on imports of the products from China listed below. The request for consultations may be found at www.wto.org contained in a document designated as WT/DS437/1. USTR invites written comments from the public concerning the issues raised in this dispute.

DATES: Although USTR will accept any comments received during the course of the dispute settlement proceedings, comments should be submitted on or before July 22, 2012, to be assured of timely consideration by USTR.

ADDRESSES: Public comments should be submitted electronically to www.regulations.gov, docket number USTR-2012-0010. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: Ben Kostrzewa, Assistant General Counsel, Office of the United States Trade Representative, 600 17th Street NW., Washington, DC 20508, (202) 395-9579.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by China

On May 25, 2012, China requested consultations concerning the preliminary and final countervailing duty determinations and countervailing duty orders issued by the DOC on the following imports from China: Lightweight Thermal Paper (Investigation C-570-921); Circular Welded Austenitic Stainless Pressure Pipe (Investigation C-570-931); Certain Circular Welded Carbon Quality Steel Line Pipe (Investigation C-570-936); Citric Acid and Certain Citrate Salts (Investigation C-570-938); Certain Tow Behind Lawn Groomers and Certain Parts Thereof (Investigation C-570-940); Certain Kitchen Appliance Shelving and Racks (Investigation C-570-942); Certain Oil Country Tubular Goods (Investigation C-570-944); Pre-Stressed Concrete Steel Wire Strand (Investigation C-570-946); Certain Steel Grating (Investigation C-570-948); Wire Decking (Investigation C-570-950); Certain Magnesia Carbon Bricks (Investigation C-570-955); Certain Seamless Carbon and Alloy Steel Standard Line and Pressure Pipe (Investigation C-570-957); Certain Coated Paper Suitable for High-Quality Print Graphics Using Sheet-Fed Presses (Investigation C-570-959); Drill Pipe (Investigation C-570-966); Aluminum Extrusions (Investigation C-570-968); Multilayered Wood Flooring (Investigation C-570-971); Certain Steel Wheels (Investigation C-570-974); Steel Wire (Investigation C-570-976); High Pressure Steel Cylinders (Investigation C-570-978); Crystalline Silicon Photovoltaic Cells, Whether or Not Assembled Into Modules (Investigation C-570-980); Utility Scale Wind Towers (Investigation C-570-982); and Drawn Stainless Steel Sinks (Investigation C-570-984) (together, the “challenged determinations and orders”). China alleges that the United States acted inconsistently with Article VI of the General Agreement on Tariffs and Trade 1994 (“GATT 1994”); Articles 1, 2, 10, 11, 12, 14, and 32 the Agreement on Subsidies and Countervailing Measures (“SCM Agreement”); and Article 15 the Protocol on the Accession of the People's Republic of China (“Protocol of Accession”). The challenged determinations and orders are available at the following web page of the Department of Commerce: http://ia.ita.doc.gov/frn/index.html.

China also states that it is requesting consultations with respect to the “`rebuttable presumption' established and applied by the USDOC, under which the USDOC considers majority government ownership of an enterprise sufficient to determine that an enterprise is a `public body' within the meaning of Article 1.1 of the SCM Agreement, unless a party is able to demonstrate that majority government ownership does not result in `control' of the enterprise.”

Public Comment: Requirements for Submissions

Interested persons are invited to submit written comments concerning the issues raised in this dispute. Persons may submit public comments electronically to www.regulations.gov docket number USTR-2012-0010. If you are unable to provide submissions by www.regulations.gov, please contact Sandy McKinzy at (202) 395-9483 to arrange for an alternative method of transmission.

To submit comments via www.regulations.gov, enter docket number USTR-2012-0010 on the home page and click “search.” The site will provide a search-results page listing all documents associated with this docket. Find a reference to this notice by selecting “Notice” under “Document Type” on the left side of the search-results page, and click on the link entitled “Submit a Comment” (for further information on using the www.regulations.gov Web site, please consult the resources provided on the Web site by clicking on “How to Use This Site” on the left side of the home page).

The www.regulations.gov site provides the option of providing comments by filling in a “Type Comments” field, or by attaching a document using an “upload file” field. It is expected that most comments will be provided in an attached document. If a document is attached, it is sufficient to type “See attached” in the “Type Comments” field.

A person requesting that information contained in a comment submitted by that person be treated as confidential business information must certify that such information is business confidential and would not customarily be released to the public by the submitter. Confidential business information must be clearly designated as such and the submission must be marked “Business Confidential” at the top and bottom of the cover page and each succeeding page. Any comment containing business confidential information must be submitted by fax to Sandy McKinzy at (202) 395-3640. A non-confidential summary of the confidential information must be submitted to www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter:

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and open to public inspection. Pursuant to section 127(e) of the Uruguay Round Agreements Act (19 U.S.C. 3537(e)), USTR will maintain a docket on this dispute settlement proceeding accessible to the public at www.regulations.gov, docket number USTR-2012-0010.

The public file will include non-confidential comments received by USTR from the public with respect to the dispute. If a dispute settlement panel is convened or in the event of an appeal from such a panel, the U.S. submissions, any non-confidential submissions, or non-confidential summaries of submissions, received from other participants in the dispute, will be made available to the public on USTR's Web site at www.ustr.gov, and the report of the panel, and, if applicable, the report of the Appellate Body, will be available on the Web site of the World Trade Organization, www.wto.org. Comments open to public inspection may be viewed on the www.regulations.gov Web site.

Bradford L. Ward,
Assistant United States Trade Representative for Monitoring and Enforcement.

[FR Doc. 2012-15375 Filed 6-21-12; 8:45 am]

BILLING CODE 3290-F2-P